DEPARTMENT OF TRANSPORTATION

Federal Motor Carrier Safety Administration

[Docket No. FMCSA-2006-26367]

Motor Carrier Safety Advisory Committee; Request for Nominations

AGENCY: Federal Motor Carrier Safety Administration (FMCSA), DOT.

ACTION: Request for Nominations to the Motor Carrier Safety Advisory Committee (MCSAC).

SUMMARY: The FMCSA solicits nominations for interested persons in the safety enforcement, safety advocacy, and motor carrier industry (including labor unions) communities to serve on the MCSAC. The MCSAC is authorized by the Safe, Accountable, Flexible, Efficient Transportation Equity Act: A Legacy for Users, Public Law 109-59. The committee was established by charter on September 8, 2006; the charter was renewed on September 8, 2008. The Committee is charged with providing advice and recommendations to the FMCSA Administrator on the needs, objectives, plans, approaches, content, and accomplishments of Federal motor carrier safety programs and Federal motor carrier safety regulations. More information about the MCSAC, including reports, meeting minutes and membership, can be found on the MCSAC Web site at http://mcsac.fmcsa.dot.gov/.

DATES: Nominations for the MCSAC must be received on or before January 13, 2010.

FOR FURTHER INFORMATION CONTACT: Mr. Jack Kostelnik, Acting Chief, Strategic Planning and Program Evaluation Division, Office of Policy Plans and Regulation, Federal Motor Carrier Safety Administration, 1200 New Jersey Avenue, SE., Washington, DC 20590-0001, 202-366-5721, Jack.Kostelnik@dot.gov.

SUPPLEMENTARY INFORMATION:

I. Background

Section 4144 of the Safe, Accountable, Flexible, Efficient Transportation Equity Act: A Legacy for Users (SAFETEA-LU) (Pub. L. 109-59, August 10, 2005), required the Secretary to establish the MCSAC. The Committee provides advice and recommendations to the Administrator of FMCSA on the needs, objectives, plans, approaches, content, and accomplishments of motor carrier safety programs and motor carrier safety regulations. Under its charter (http://mcsac/about.htm), the Committee may be comprised of up to 20 members appointed by the Administrator for up to two-year terms. They are selected from among individuals who are not employees of FMCSA and who are specially qualified to serve on the Committee based on their education, training, or experience. The members include representatives of the motor carrier industry, safety advocates, and safety enforcement officials. Representatives of a single enumerated interest group may not constitute a majority of the Committee members. The Administrator designates a chairman of the Committee from among the members. Committee members must not be officers or employees of the Federal Government and serve without pay.

The White House has issued guidance to executive agencies and departments that Federally registered lobbyists not be appointed to agency advisory boards and commissions. Pursuant to this guidance, FMCSA will not consider for appointment to the MCSAC any individual who is subject to the registration and reporting requirements of the Lobbying Disclosure Act. 2 U.S.C. 1605.

The Administrator may allow a member, when attending meetings of the Committee or a subcommittee, reimbursement of expenses authorized under Section 5703 of Title 5, United States Code and the Federal Travel Regulation, 41 CFR Part 301, relating to per diem, travel and transportation.

The FMCSA anticipates calling Committee meetings at least four times each year. Meetings are open to the general public, except as provided under the Federal Advisory Committee Act (FACA) (5 U.S.C. App. 2). Notice of each meeting is published in the Federal Register at least 15 calendar days prior to the date of the meeting.

II. Request for Nominations

The FMCSA seeks nominations for membership to the MCSAC from representatives of the safety enforcement, safety advocacy, industry (including labor unions) sectors with specialized experience, education, or training in commercial motor vehicle issues. As allowed under the charter, the Agency is increasing the membership. The Agency is required under FACA to appoint members of diverse views and interests to ensure the committee is balanced with appropriate consideration of background. All Committee members must be able to attend three to four meetings each year in person, or by teleconference. Interested persons should have a commitment to transportation safety, knowledge of transportation issues, experience on panels that deal with transportation safety and a record of collaboration and professional experience in commercial motor vehicle safety issues. For nomination information or a nomination application, please contact Jack Kostelnik at 202-366-5721, or by e-mail at Jack.Kostelnik@dot.gov. Nominations must be received on or January 13, 2010.

Issued on: December 8, 2009.
Anne S. Ferro,
Administrator.

[FR Doc. E9-29700 Filed 12-11-09; 8:45 am]

BILLING CODE 4910-EX-P